ENVIRONMENTAL PROTECTION AGENCY

40 CFR Part 63

[EPA-HQ-OAR-2008-0236; FRL-8954-3]

RIN 2060-AP85

National Emission Standards for Hazardous Air Pollutants: Area Source Standards for Aluminum, Copper, and Other Nonferrous Foundries—Technical Correction

AGENCY: Environmental Protection Agency (EPA).

ACTION: Final rule; technical correction.

SUMMARY: This action makes technical corrections to regulatory text of the “Revision of Source Category List for Standards Under Section 112(k) of the Clean Air Act; National Emission Standards for Hazardous Air Pollutants: Area Source Standards for Aluminum, Copper, and Other Nonferrous Foundries,” which was issued as a final rule on June 25, 2009. These technical corrections will not change the standards established by the rule or the level of health protection provided.

DATES: Effective Date: September 10, 2009.

ADDRESSES: EPA has established a docket for this action under Docket ID No. EPA-HQ-OAR-2008-0236. All documents in the docket are listed in the Federal Docket Management System index at http://www.regulations.gov. Although listed in the index, some information is not publicly available (e.g., confidential business information (CBI) or other information whose disclosure is restricted by statute). Certain other material, such as copyrighted material, will be publicly available only in hard copy form. Publicly available docket materials are available either electronically through http://www.regulations.gov or in hard copy at the EPA Docket Center, Public Reading Room, EPA West, Room 3334, 1301 Constitution Ave., NW., Washington, DC. The Public Reading Room is open from 8:30 a.m. to 4:30 p.m., Monday through Friday, excluding legal holidays. The telephone number for the Public Reading Room is (202) 566-1744, and the telephone number for the Air Docket is (202) 566-1742.

FOR FURTHER INFORMATION CONTACT: For questions about the final standards for aluminum foundries, contact Mr. David Cole, Office of Air Quality Planning and Standards, Outreach and Information Division, Regulatory Development and Policy Analysis Group (C404-05), Environmental Protection Agency, Research Triangle Park, NC 27711; Telephone Number: (919) 541-5565; Fax Number: (919) 541-0242; E-mail address: Cole.David@epa.gov. For questions about the final standards for copper foundries and other nonferrous foundries, contact Mr. Gary Blais, Office of Air Quality Planning and Standards, Outreach and Information Division, Regulatory Development and Policy Analysis Group (C404-05), Environmental Protection Agency, Research Triangle Park, NC 27711; Telephone Number: (919) 541-3223; Fax Number: (919) 541-0242; E-mail address: Blais.Gary@epa.gov.

SUPPLEMENTARY INFORMATION: Section 553 of the Administrative Procedure Act (APA), 5 U.S.C. 553(b)(B), provides that, when an agency for good cause finds that notice and public procedure are impracticable, unnecessary, or contrary to the public interest, the agency may issue a rule without providing notice and an opportunity for public comment. We have determined that there is good cause for making this action final without prior proposal and opportunity for comment because the changes to the rule are minor technical corrections, noncontroversial, and do not substantively change the requirements of the rule. Thus, notice and public procedure are unnecessary. We find that this constitutes good cause under 5 U.S.C. 553(b)(B) (see also the final sentence of section 307(d)(1) of the Clean Air Act, 42 U.S.C. 7607(d)(1), indicating that the good cause provisions of the APA continue to apply to this type of rulemaking under the Clean Air Act).

Regulated Entities. The regulated categories and entities potentially affected by the final rule include:

Category | NAICS code ¹ | Examples of regulated entities
Industry: |  |
Aluminum Foundries | 331524 | Area source facilities that pour molten aluminum into molds to manufacture aluminum castings (excluding die casting).
Copper Foundries | 331525 | Area source facilities that pour molten copper and copper-based alloys (e.g., brass, bronze) into molds to manufacture copper and copper-based alloy castings (excluding die casting).
Other Nonferrous Foundries | 331528 | Area source facilities that pour molten nonferrous metals (except aluminum and copper) into molds to manufacture nonferrous castings (excluding die casting). Establishments in this industry purchase nonferrous metals, such as nickel, zinc, and magnesium that are made in other establishments.
¹ North American Industry Classification System.

This table is not intended to be exhaustive, but rather provides a guide for readers regarding entities likely to be affected by this action. To determine whether your facility is regulated by this action, you should examine the applicability criteria in 40 CFR 63.11544 of subpart ZZZZZZ (National Emission Standards for Hazardous Air Pollutants: Area Source Standards for Aluminum, Copper, and Other Nonferrous Foundries). If you have any questions regarding the applicability of this action to a particular entity, consult either the air permit authority for the entity or your EPA Regional representative, as listed in 40 CFR 63.13 of subpart A (General Provisions).

Electronic Access. In addition to being available in the docket, an electronic copy of this final action will also be available on the Worldwide Web (WWW) through the Technology Transfer Network (TTN). Following signature, a copy of this final action will be posted on the TTN's policy and guidance page for newly proposed or promulgated rules at the following address: http://www.epa.gov/ttn/oarpg/. The TTN provides information and technology exchange in various areas of air pollution control.

I. Correction

On June 25, 2009 (74 FR 30366), the EPA promulgated the national emission standards for hazardous air pollutants (NESHAP) for area source aluminum, copper, and other nonferrous foundries under section 112(d)(5) of the Clean Air Act as subpart ZZZZZZ in 40 CFR part 63. Today's action makes minor corrections to clarify wording in the regulatory text. The corrections will become effective immediately (without further rulemaking action) on September 10, 2009.

Minor corrections are being made to clarify the applicability requirements in § 63.11544(a)(1), (2), and (3) to change the word “materials” to “material” and to delete the words “one or more” in the phrases “materials containing one or more aluminum foundry HAP as defined in § 63.11556”, “materials containing one or more copper foundry HAP, as defined in § 63.11556”, and “materials containing one or more other nonferrous foundry HAP, as defined in § 63.11556.” We are also adding a comma after “aluminum foundry HAP” for consistency. These minor technical changes provide confirmation that the applicability provisions are referring to terms in the definitions section of the final rule, i.e., “material containing aluminum foundry HAP”, “material containing copper foundry HAP”, and “material containing other nonferrous foundry HAP.” Each of these terms is defined as “a material containing one or more [aluminum/copper/other nonferrous] foundry HAP. * * *” making it clear, even without these technical corrections, that the applicability provisions were referring to the terms “material containing aluminum foundry HAP”, “material containing copper foundry HAP”, and “material containing other nonferrous foundry HAP.” This clear intent was explained in detail in the preamble of the final rule (74 FR 30376, 30377).

II. Statutory and Executive Order Reviews

This action is not a “significant regulatory action” under the terms of Executive Order (EO) 12866 (58 FR 51735, October 4, 1993) and is therefore not subject to EO 12866 review.

The technical correction does not impose an information collection burden under the provisions of the Paperwork Reduction Act of 1995 (44 U.S.C. 3501 et seq.).

Because EPA has made a “good cause” finding that this action is not subject to notice and comment requirements under the APA or any other statute, it is not subject to the Regulatory Flexibility Act (5 U.S.C. 601 et seq.), or to sections 202 and 205 of the Unfunded Mandates Reform Act of 1995 (UMRA) (Pub. L. 104-4). In addition, this action does not significantly or uniquely affect small governments, as described in section 203 of the UMRA.

The technical correction does not have federalism implications, as specified in EO 13132, Federalism (64 FR 43255, August 10, 1999). Today's action also does not have Tribal implications, as specified by EO 13175, Consultation and Coordination with Indian Tribal Governments (65 FR 67249, November 6, 2000).

The technical correction is not subject to EO 13045, Protection of Children from Environmental Health Risks and Safety Risks (62 FR 19885, April 23, 1997) because it is not economically significant. The technical correction is not subject to EO 13211, Actions Concerning Regulations That Significantly Affect Energy Supply, Distribution, or Use (66 FR 28355, May 22, 2001) because it is not a significant regulatory action under EO 12866.

The technical correction action does not involve technical standards; thus, the requirements of section 12(d) of the National Technology Transfer and Advancement Act of 1995 (15 U.S.C. 272 note) do not apply.

The technical correction will not have disproportionately high and adverse human health or environmental effects on minority or low-income populations because it does not affect the level of protection provided to human health or the environment, as addressed by EO 12898, Federal Actions to Address Environmental Justice in Minority Populations and Low-Income Populations (59 FR 7629, February 16, 1994).

The Congressional Review Act (5 U.S.C. 801, et seq.), as added by the Small Business Regulatory Enforcement Fairness Act of 1996, generally provides that before a rule may take effect, the agency promulgating the rule must submit a rule report, which includes a copy of the rule, to each House of the Congress and to the Comptroller General of the United States. The EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2). This final rule will be effective on September 10, 2009.

The EPA's compliance with these statutes and Executive Orders for the underlying rule is discussed in the June 25, 2009 Federal Register notice containing the Area Source Aluminum, Copper, and Other Nonferrous Foundries final rule (74 FR 30366).

List of Subjects for 40 CFR Part 63

Environmental protection, Administrative practice and procedure, Air pollution control, Hazardous substances, Intergovernmental relations, Reporting and recordkeeping requirements.

Dated: September 1, 2009.
Gina McCarthy,
Assistant Administrator for Air and Radiation.

For the reasons set out in the preamble, title 40, chapter I, part 63, subpart ZZZZZZ of the Code of Federal Regulations is amended as follows:

PART 63—[AMENDED]

1. The authority citation for part 63 continues to read as follows:

Authority: 42 U.S.C. 7401, et seq.

Subpart ZZZZZZ—[Amended]

2. Section 63.11544 is amended by:

a. Revising paragraph (a)(1);

b. Revising paragraph (a)(2); and

c. Revising paragraph (a)(3) to read as follows:

§ 63.11544 Am I subject to this subpart?

(a) * * *

(1) Your aluminum foundry uses material containing aluminum foundry HAP, as defined in § 63.11556, “What definitions apply to this subpart?”; or

(2) Your copper foundry uses material containing copper foundry HAP, as defined in § 63.11556, “What definitions apply to this subpart?”; or

(3) Your other nonferrous foundry uses material containing other nonferrous foundry HAP, as defined in § 63.11556, “What definitions apply to this subpart?”.

* * * * *

§ 63.11553 [Amended]

3. Section 63.11553 is amended by redesignating the second paragraph (b)(4) as paragraph (b)(5).

[FR Doc. E9-21712 Filed 9-9-09; 8:45 am]

BILLING CODE 6560-50-P